DEPARTMENT OF HOUSING AND URBAN DEVELOPMENT

[Docket No. FR-5280-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Melissa Evans, 1900 Half St., SW., CG-431, Washington, DC 20593-0001; (202) 475-5628; ENERGY: Mr. Mark Price, Department of Energy, Office of Engineering & Construction Management, MA-50, 1000 Independence Ave., SW., Washington, DC 20585: (202) 586-5422; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: May 7, 2009.
Mark R. Johnston,
Deputy Assistant Secretary for Special Needs.

TITLE V, FEDERAL SURPLUS PROPERTY PROGRAM

FEDERAL REGISTER REPORT FOR05/15/2009

Suitable/Available Properties

Land

Arizona

Portion/Tract SG-2-8

Ironwood Road

Apache Junction AZ 85220

Landholding Agency: Interior

Property Number: 61200920018

Status: Excess

Comments: 5.89 acres

Unsuitable Properties

Building

California

Bldgs. MO3, MO14, MO17

Sandia National Lab

Livermore Co: Alameda CA 94550

Landholding Agency: Energy

Property Number: 41200220001

Status: Excess

Reasons: Extensive deterioration

Bldgs. C920, C921, C922

Sandia Natl Laboratories

Livermore Co: Alameda CA 94551

Landholding Agency: Energy

Property Number: 41200540001

Status: Unutilized

Reasons: Secured Area, Extensive deterioration

Bldg. 175

Livermore National Lab

Livermore CA

Landholding Agency: Energy

Property Number: 41200630001

Status: Excess

Reasons: Within 2000 ft. of flammable or explosive material, Secured Area

Trailer 1403

Livermore National Lab

Livermore CA

Landholding Agency: Energy

Property Number: 41200630003

Status: Excess

Reasons: Within 2000 ft. of flammable or explosive material, Secured Area

Trailer 3703

Livermore National Lab

Livermore CA

Landholding Agency: Energy

Property Number: 41200630004

Status: Excess

Reasons: Secured Area, Within 2000 ft. of flammable or explosive material

Bldg. 363

National Laboratory

Livermore CA

Landholding Agency: Energy

Property Number: 41200710001

Status: Excess

Reasons: Secured Area

Bldgs. 436, 446

National Laboratory

Livermore CA

Landholding Agency: Energy

Property Number: 41200710002

Status: Excess

Reasons: Secured Area

Bldg. 3520

National Laboratory

Livermore CA

Landholding Agency: Energy

Property Number: 41200710003

Status: Excess

Reasons: Within 2000 ft. of flammable or explosive material, Secured Area

Bldgs. 4182, 4184, 4187

National Laboratory

Livermore CA

Landholding Agency: Energy

Property Number: 41200710004

Status: Excess

Reasons: Secured Area, Within 2000 ft. of flammable or explosive material

Bldg. 5974

National Laboratory

Livermore CA

Landholding Agency: Energy

Property Number: 41200710005

Status: Excess

Reasons: Within 2000 ft. of flammable or explosive material, Secured Area

Bldgs. 194A, 198

Lawrence Livermore Natl Lab

Livermore CA

Landholding Agency: Energy

Property Number: 41200720007

Status: Excess

Reasons: Within 2000 ft. of flammable or explosive material, Secured Area

Bldgs. 213, 280

Lawrence Livermore Natl Lab

Livermore CA

Landholding Agency: Energy

Property Number: 41200720008

Status: Excess

Reasons: Within 2000 ft. of flammable or explosive material, Secured Area

Bldgs. 312, 345

Lawrence Livermore Natl Lab

Livermore CA

Landholding Agency: Energy

Property Number: 41200720009

Status: Excess

Reasons: Within 2000 ft. of flammable or explosive material, Secured Area

Bldgs. 2177, 2178

Lawrence Livermore Natl Lab

Livermore CA

Landholding Agency: Energy

Property Number: 41200720010

Status: Excess

Reasons: Within 2000 ft. of flammable or explosive material, Secured Area

Bldgs. 2687, 3777

Lawrence Livermore Natl Lab

Livermore CA

Landholding Agency: Energy

Property Number: 41200720011

Status: Excess

Reasons: Within 2000 ft. of flammable or explosive material, Secured Area

Bldgs. 263, 419

Lawrence Livermore Natl Lab

Livermore CA

Landholding Agency: Energy

Property Number: 41200720012

Status: Excess

Reasons: Within 2000 ft. of flammable or explosive material, Secured Area

Bldgs. 1401, 1402, 1404

Lawrence Livermore Natl Lab

Livermore CA

Landholding Agency: Energy

Property Number: 41200720013

Status: Excess

Reasons: Within 2000 ft. of flammable or explosive material, Secured Area

Bldgs. 1405, 1406, 1407

Lawrence Livermore Natl Lab

Livermore CA

Landholding Agency: Energy

Property Number: 41200720014

Status: Excess

Reasons: Within 2000 ft. of flammable or explosive material, Secured Area

Bldgs. 1408, 1413, 1456

Lawrence Livermore Natl Lab

Livermore CA

Landholding Agency: Energy

Property Number: 41200720015

Status: Excess

Reasons: Within 2000 ft. of flammable or explosive material, Secured Area

Bldg. 2684

Lawrence Livermore Natl Lab

Livermore CA

Landholding Agency: Energy

Property Number: 41200720016

Status: Excess

Reasons: Secured Area, Within 2000 ft. of flammable or explosive material

Bldg. CM46A

Sandia Natl Lab

Livermore CA 94551

Landholding Agency: Energy

Property Number: 41200730005

Status: Excess

Reasons: Secured Area

Bldgs. 445, 534

Lawrence Livermore Natl Lab

Livermore CA

Landholding Agency: Energy

Property Number: 41200740001

Status: Excess

Reasons: Secured Area, Within 2000 ft. of flammable or explosive material

4 Bldgs.

Lawrence Livermore Natl Lab

802A, 811, 830, 854A

Livermore CA

Landholding Agency: Energy

Property Number: 41200740002

Status: Excess

Reasons: Within 2000 ft. of flammable or explosive material, Secured Area

Bldgs. 8806, 8710, 8711

Lawrence Livermore Natl Lab

Livermore CA

Landholding Agency: Energy

Property Number: 41200740003

Status: Excess

Reasons: Within 2000 ft. of flammable or explosive material, Secured Area

Bldgs. 1492, 1526, 1579

Lawrence Livermore

National Lab

Livermore CA

Landholding Agency: Energy

Property Number: 41200740005

Status: Excess

Reasons: Secured Area

Bldgs. 1601, 1632

Lawrence Livermore

National Lab

Livermore CA

Landholding Agency: Energy

Property Number: 41200740006

Status: Excess

Reasons:Secured Area

Bldgs. 2552, 2685, 2728

Lawrence Livermore

National Lab

Livermore CA

Landholding Agency: Energy

Property Number: 41200740007

Status: Excess

Reasons: Secured Area

Bldgs. 2801, 2802

Lawrence Livermore

National Lab

Livermore CA

Landholding Agency: Energy

Property Number: 41200740008

Status: Excess

Reasons: Secured Area

Bldgs. 3175, 3751, 3775

Lawrence Livermore

National Lab

Livermore CA

Landholding Agency: Energy

Property Number: 41200740009

Status: Excess

Reasons: Secured Area

4 Bldgs.

Lawrence Livermore

National Lab

Livermore CA

Landholding Agency: Energy

Property Number: 41200740010

Status: Excess

Directions: 4161, 4316, 4384, 4388

Reasons: Secured Area

Bldgs. 4406, 4475

Lawrence Livermore

National Lab

Livermore CA

Landholding Agency: Energy

Property Number: 41200740011

Status: Excess

Reasons: Secured Area

Bldgs. 4905, 4906, 4926

Lawrence Livermore

National Lab

Livermore CA

Landholding Agency: Energy

Property Number: 41200740012

Status: Excess

Reasons: Secured Area

Bldg. 5425

Lawrence Livermore

National Lab

Livermore CA

Landholding Agency: Energy

Property Number: 41200740013

Status: Excess

Reasons: Secured Area

Bldg. 71G

Lawrence Berkeley Natl Lab

Berkeley CA 94720

Landholding Agency: Energy

Property Number: 41200820001

Status: Excess

Reasons: Secured Area, Extensive deterioration

Bldgs. 51, 51A

Lawrence Berkeley Natl Lab

Berkeley CA 94720

Landholding Agency: Energy

Property Number: 41200820002

Status: Excess

Reasons: Extensive deterioration

10 Bldgs.

Lawrence Livermore Natl Lab

Livermore CA

Landholding Agency: Energy

Property Number: 41200830002

Status: Excess

Directions: 2127, 4302, 4377, 4378, 4383, 5225, 5976, 5979, 5980, 6203

Reasons: Secured Area, Within 2000 ft. of flammable or explosive material

5 Bldgs.

Lawrence Livermore Natl Lab

1481, 1527, 1884, 1885, 1927

Livermore CA

Landholding Agency: Energy

Property Number: 41200840001

Status: Excess

Reasons: Extensive deterioration

Bldgs. 3577, 3982, 4128

Lawrence Livermore Natl Lab

Livermore CA

Landholding Agency: Energy

Property Number: 41200840002

Status: Excess

Reasons: Secured Area

Bldgs. 328, 367, 376

Lawrence Livermore Natl Lab

Livermore CA

Landholding Agency: Energy

Property Number: 41200840008

Status: Excess

Reasons: Secured Area, Within 2000 ft. of flammable or explosive material

Bldg. 5125

Lawrence Livermore Natl Lab

Livermore CA

Landholding Agency: Energy

Property Number: 41200840009

Status: Excess

Reasons: Within 2000 ft. of flammable or explosive material, Secured Area

6 Bldgs.

Lawrence Livermore Natl Lab

Livermore CA

Landholding Agency: Energy

Property Number: 41200840010

Status: Excess

Directions: 1407, 1408, 1413, 1492, 1526, 1579

Reasons: Secured Area, Within 2000 ft. of flammable or explosive material

6 Bldgs.

Lawrence Livermore Natl Lab

Livermore CA

Landholding Agency: Energy

Property Number: 41200840011

Status: Excess

Directions: 3775, 4161, 4316, 4388, 4905, 4906

Reasons: Secured Area, Within 2000 ft. of flammable or explosive material

Bldgs. 8710, 8711, 8806

Lawrence Livermore Natl Lab

Livermore CA

Landholding Agency: Energy

Property Number: 41200840012

Status: Excess

Reasons: Within 2000 ft. of flammable or explosive material, Secured Area

6 Bldgs.

Lawrence Livermore Natl Lab

Livermore CA

Landholding Agency: Energy

Property Number: 41200920005

Status: Excess

Directions: 1541, 1878, 2727, 3180, 4107, 5477

Reasons: Secured Area

Bldg. 22172

Marine Corps Base

Camp Pendleton CA 92055

Landholding Agency: Navy

Property Number: 77200920020

Status: Excess

Reasons: Extensive deterioration, Secured Area

Bldg. SNI258

Naval Base

San Nicolas Island CA 93043

Landholding Agency: Navy

Property Number: 77200920021

Status: Unutilized

Reasons: Secured Area, Extensive deterioration

6 Bldgs.

Naval Base

Point Mugu CA 93042

Landholding Agency: Navy

Property Number: 77200920022

Status: Unutilized

Directions: PM1823A&B, 1825A&B, 1827A&B

Reasons: Secured Area

9 Bldgs.

Naval Base

Point Mugu CA 93042

Landholding Agency: Navy

Property Number: 77200920023

Status: Unutilized

Directions: PM1936, 1937, 1938, 1939, 1959, 1961, 1963, 1965, 1967

Reasons: Secured Area

Connecticut

Bldgs. 25 and 26

Prospect Hill Road

Windsor Co: Hartford CT 06095

Landholding Agency: Energy

Property Number: 41199440003

Status: Excess

Reasons: Secured Area

9 Bldgs.

Knolls Atomic Power Lab, Windsor Site

Windsor Co: Hartford CT 06095

Landholding Agency: Energy

Property Number: 41199540004

Status: Excess

Reasons: Secured Area

Bldg. 8, Windsor Site

Knolls Atomic Power Lab

Windsor Co: Hartford CT 06095

Landholding Agency: Energy

Property Number: 41199830006

Status: Unutilized

Reasons: Extensive deterioration

Southeast Corner Parcel

Naval Submarine Base

Groton CT 06349

Landholding Agency: Navy

Property Number: 77200920024

Status: Underutilized

Reasons: Within 2000 ft. of flammable or explosive material, Secured Area

Hawaii

Bldgs. 40, 43

Naval Magazine West Loch

Ewa Beach HI 96706

Landholding Agency: Navy

Property Number: 77200920025

Status: Excess

Reasons: Secured Area, Extensive deterioration

Bldgs. 52, 64, 64A

Naval Station

Pearl Harbor HI 06860

Landholding Agency: Navy

Property Number: 77200920026

Status: Excess

Reasons: Within 2000 ft. of flammable or explosive material, Secured Area, Extensive deterioration

Idaho

Bldg. CPP-691

Idaho National Engineering Laboratory

Scoville Co: Butte ID 83415

Landholding Agency: Energy

Property Number: 41199610003

Status: Unutilized

Reasons: Secured Area

Bldg. TRA-669

Idaho National Engineering Laboratory

Scoville Co: Butte ID 83415

Landholding Agency: Energy

Property Number: 41199610013

Status: Unutilized

Reasons: Secured Area

Bldg. TRA-673

Idaho National Engineering Laboratory

Scoville Co: Butte ID 83415

Landholding Agency: Energy

Property Number: 41199610018

Status: Unutilized

Reasons: Secured Area

Bldg. PBF-620

Idaho National Engineering Laboratory

Scoville Co: Butte ID 83415

Landholding Agency: Energy

Property Number: 41199610019

Status: Unutilized

Reasons: Secured Area

Bldg. PBF-619

Idaho National Engineering Laboratory

Scoville Co: Butte ID 83415

Landholding Agency: Energy

Property Number: 41199610022

Status: Unutilized

Reasons: Secured Area

Bldg. TRA-641

Idaho National Engineering Laboratory

Scoville Co: Butte ID 83415

Landholding Agency: Energy

Property Number: 41199610034

Status: Unutilized

Reasons: Secured Area

Bldg. CF-606

Idaho National Engineering Laboratory

Scoville Co: Butte ID 83415

Landholding Agency: Energy

Property Number: 41199610037

Status: Unutilized

Reasons: Secured Area

Bldgs. CPP638, CPP642

Idaho Natl Eng Lab

Scoville Co: Butte ID 83415

Landholding Agency: Energy

Property Number: 41200410014

Status: Excess

Reasons: Secured Area

Bldg. CPP 743

Idaho Natl Eng Lab

Scoville Co: Butte ID 83-415

Landholding Agency: Energy

Property Number: 41200410020

Status: Excess

Reasons: Secured Area

Bldgs. CPP1647, 1653

Idaho Natl Eng Lab

Scoville Co: Butte ID 83415

Landholding Agency: Energy

Property Number: 41200410022

Status: Excess

Reasons: Secured Area

Bldg. CPP1677

Idaho Natl Eng Lab

Scoville Co: Butte ID 83415

Landholding Agency: Energy

Property Number: 41200410023

Status: Excess

Reasons: Secured Area

Bldg. 694

Idaho Natl Eng Lab

Scoville Co: Butte ID 83415

Landholding Agency: Energy

Property Number: 41200410034

Status: Excess

Reasons: Secured Area

Bldgs. CPP1604-CPP1608

Idaho National Eng Lab

Scoville Co: Butte ID 83415

Landholding Agency: Energy

Property Number: 41200430071

Status: Excess

Reasons: Secured Area

Bldgs. CPP1617-CPP1619

Idaho National Eng Lab

Scoville Co: Butte ID 83415

Landholding Agency: Energy

Property Number: 41200430072

Status: Excess

Reasons: Secured Area

6 Bldgs.

Idaho National Eng Lab

Scoville Co: Butte ID 83415

Landholding Agency: Energy

Property Number: 41200430073

Status: Excess

Directions: CPP1631, CPP1634, CPP1635, CPP1636, CPP1637, CPP1638

Reasons: Secured Area

5 Bldgs.

Idaho National Eng Lab

Scoville Co: Butte ID 83415

Landholding Agency: Energy

Property Number: 41200430074

Status: Excess

Directions: CPP1642, CPP1643, CPP1644, CPP1646, CPP1649

Reasons: Secured Area

3 Bldgs.

Idaho National Eng Lab

Scoville Co: Butte ID 83415

Landholding Agency: Energy

Property Number: 41200430075

Status: Excess

Directions: CPP1650, CPP1651, CPP1656

Reasons: Secured Area

5 Bldgs.

Idaho National Eng Lab

Scoville Co: Butte ID 83415

Landholding Agency: Energy

Property Number: 41200430076

Status: Excess

Directions: CPP1662, CPP1663, CPP1671, CPP1673, CPP1674

Reasons: Secured Area

5 Bldgs.

Idaho National Eng Lab

Scoville Co: Butte ID 83415

Landholding Agency: Energy

Property Number: 41200430077

Status: Excess

Directions: CPP1678, CPP1682, CPP1683, CPP1684, CPP1686

Reasons: Secured Area

5 Bldgs.

Idaho National Eng Lab

Scoville Co: Butte ID 83415

Landholding Agency: Energy

Property Number: 41200430078

Status: Excess

Directions: CPP1713, CPP1749, CPP1750, CPP1767, CPP1769

Reasons: Secured Area

5 Bldgs.

Idaho National Eng Lab

Scoville Co: Butte ID 83415

Landholding Agency: Energy

Property Number: 41200430079

Status: Excess

Directions: CPP1770, CPP1771, CPP1772, CPP1774, CPP1776

Reasons: Secured Area

4 Bldgs.

Idaho National Eng Lab

Scoville Co: Butte ID 83415

Landholding Agency: Energy

Property Number: 41200430081

Status: Excess

Directions: CPP1789, CPP1790, CPP1792, CPP1794

Reasons: Secured Area

Bldgs. CPP2701, CPP2706

Idaho National Eng Lab

Scoville Co: Butte ID 83415

Landholding Agency: Energy

Property Number: 41200430082

Status: Excess

Reasons: Secured Area

3 Bldgs.

Idaho National Eng Lab

Scoville Co: Butte ID 83415

Landholding Agency: Energy

Property Number: 41200430089

Status: Excess

Directions: TRA603, TRA604, TRA610

Reasons: Secured Area

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654

Reasons: Secured Area

Bldg. TAN655

Idaho National Eng Lab

Scoville Co: Butte ID 83415

Landholding Agency: Energy

Property Number: 41200430092

Status: Excess

Reasons: Secured Area

3 Bldgs.

Idaho National Eng Lab

Scoville Co: Butte ID 83415

Landholding Agency: Energy

Property Number: 41200430093

Status: Excess

Directions: TRA657, TRA661, TRA668

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609

Reasons: Secured Area

5 Bldgs.

Idaho National Eng Lab

Scoville Co: Butte ID 83415

Landholding Agency: Energy

Property Number: 41200430096

Status: Excess

Directions: CPP611-CPP614, CPP616

Reasons: Secured Area

4 Bldgs.

Idaho National Eng Lab

Scoville Co: Butte ID 83415

Landholding Agency: Energy

Property Number: 41200430097

Status: Excess

Directions: CPP621, CPP626, CPP630, CPP639

Reasons: Secured Area

4 Bldgs.

Idaho National Eng Lab

Scoville Co: Butte ID 83415

Landholding Agency: Energy

Property Number: 41200430098

Status: Excess

Directions: CPP641, CPP644, CPP645, CPP649

Reasons: Secured Area

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho National Eng Lab

Scoville Co: Butte ID 83415

Landholding Agency: Energy

Property Number: 41200440002

Status: Excess

Reasons: Secured Area

1 Bldg.

Idaho National Eng Lab

Scoville Co: Butte ID 83415

Landholding Agency: Energy

Property Number: 41200440004

Status: Excess

Directions: CPP684

Reasons: Secured Area

5 Bldgs.

Idaho National Eng Lab

Scoville Co: Butte ID 83415

Landholding Agency: Energy

Property Number: 41200440005

Status: Excess

Directions: CPP692, CPP694, CPP697-CPP699

Reasons: Secured Area

3 Bldgs.

Idaho National Eng Lab

Scoville Co: Butte ID 83415

Landholding Agency: Energy

Property Number: 41200440006

Status: Excess

Directions: CPP701, CPP701A, CPP708

Reasons: Secured Area

Bldgs. 711, 719A

Idaho National Eng Lab

Scoville Co: Butte ID 83415

Landholding Agency: Energy

Property Number: 41200440007

Status: Excess

Reasons: Secured Area

4 Bldgs.

Idaho National Eng Lab

Scoville Co: Butte ID 83415

Landholding Agency: Energy

Property Number: 41200440008

Status: Excess

Directions: CPP724-CPP726, CPP728

Reasons: Secured Area

Bldg. CPP729/741

Idaho National Eng Lab

Scoville Co: Butte ID 83415

Landholding Agency: Energy

Property Number: 41200440012

Status: Excess

Reasons: Secured Area

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

3 Bldgs.

Idaho National Eng Lab

CPP753, CPP753A, CPP754

Scoville Co: Butte ID 83415

Landholding Agency: Energy

Property Number: 41200440017

Status: Excess

Reasons: Secured Area

Bldgs. CPP760, CPP763

Idaho National Eng Lab

Scoville Co: Butte ID 83415

Landholding Agency: Energy

Property Number: 41200440018

Status: Excess

Reasons: Secured Area

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Bldg. CF633

Idaho Natl Laboratory

Scoville Co: Butte ID 83415

Landholding Agency: Energy

Property Number: 41200520005

Status: Excess

Reasons: Extensive deterioration

Bldgs. B23-602, B27-601

Idaho Natl Laboratory

Idaho Falls ID 83415

Landholding Agency: Energy

Property Number: 41200820003

Status: Unutilized

Reasons: Secured Area

Bldgs. CF-635, CF650

Idaho Natl Laboratory

Idaho Falls ID 83415

Landholding Agency: Energy

Property Number: 41200820005

Status: Unutilized

Reasons: Within 2000 ft. of flammable or explosive material, Secured Area

Bldgs. CF-662, CF-692

Idaho Natl Laboratory

Idaho Falls ID 83415

Landholding Agency: Energy

Property Number: 41200820006

Status: Unutilized

Reasons: Secured Area, Extensive deterioration.

Illinois

Bldgs. 306A, B, C, TR-5

Argonne National Lab

Argonne IL 60439

Landholding Agency: Energy

Property Number: 41200720017

Status: Excess

Reasons: Secured Area

Trailers 092, 120, 121, 143

Fermi Natl Accelerator lab

Batavia IL 60510

Landholding Agency: Energy

Property Number: 41200740004

Status: Excess

Reasons: Extensive deterioration

Bldg. 40

Argonne National Lab

DuPage IL 60439

Landholding Agency: Energy

Property Number: 41200820007

Status: Excess

Reasons: Secured Area, Contamination.

Michigan

Bldg. 022

US Coast Guard Station

Marquette MI 49855

Landholding Agency: Coast Guard

Property Number: 88200920004

Status: Excess

Reasons: Secured Area.

Nevada

28 Facilities

Nevada Test Site

Mercury Co: Nye NV 89023

Landholding Agency: Energy

Property Number: 41200310018

Status: Excess

Reasons: Secured Area, Other—contamination

31 Bldgs./Facilities

Nellis AFB

Tonopah Test Range

Tonopah Co: Nye NV 89049

Landholding Agency: Energy

Property Number: 41200330003

Status: Unutilized

Reasons: Secured Area

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

241 Bldgs.

Tonopah Test Range

Tonopah Co: Nye NV 89049

Landholding Agency: Energy

Property Number: 41200440036

Status: Excess

Reasons: Secured Area, Within 2000 ft. of flammable or explosive material

10 Bldgs.

Nevada Test Site

Mercury Co: Nye NV 89023

Landholding Agency: Energy

Property Number: 41200610003

Status: Excess

Reasons: Secured Area

New Mexico

Bldgs. 9252, 9268

Kirtland Air Force Base

Albuquerque Co: Bernalillo NM 87185

Landholding Agency: Energy

Property Number: 41199430002

Status: Unutilized

Reasons: Extensive deterioration

Tech Area II

Kirtland Air Force Base

Albuquerque Co: Bernalillo NM 87105

Landholding Agency: Energy

Property Number: 41199630004

Status: Unutilized

Reasons: Secured Area, Within 2000 ft. of flammable or explosive material, Extensive deterioration

Bldg. 26, TA-33

Los Alamos National Laboratory

Los Alamos NM 87545

Landholding Agency: Energy

Property Number: 41199810004

Status: Unutilized

Reasons: Extensive deterioration, Secured Area

Bldg. 2, TA-21

Los Alamos National Laboratory

Los Alamos NM 87545

Landholding Agency: Energy

Property Number: 41199810008

Status: Underutilized

Reasons: Secured Area

Bldg. 5, TA-21

Los Alamos National Laboratory

Los Alamos NM 87545

Landholding Agency: Energy

Property Number: 41199810011

Status: Unutilized

Reasons: Secured Area

Bldg. 116, TA-21

Los Alamos National Laboratory

Los Alamos NM 87545

Landholding Agency: Energy

Property Number: 41199810013

Status: Unutilized

Reasons: Secured Area

Bldg. 286, TA-21

Los Alamos National Laboratory

Los Alamos NM 87545

Landholding Agency: Energy

Property Number: 41199810016

Status: Unutilized

Reasons: Secured Area

Bldg. 516, TA-16

Los Alamos National Laboratory

Los Alamos NM 87545

Landholding Agency: Energy

Property Number: 41199810021

Status: Unutilized

Reasons: Within 2000 ft. of flammable or explosive material, Secured Area, Extensive deterioration

Bldg. 517, TA-16

Los Alamos National Laboratory

Los Alamos NM 87545

Landholding Agency: Energy

Property Number: 41199810022

Status: Unutilized

Reasons: Within 2000 ft. of flammable or explosive material, Secured Area, Extensive deterioration

Bldg. 31

Los Alamos National Laboratory

Los Alamos NM 87545

Landholding Agency: Energy

Property Number: 41199930003

Status: Unutilized

Reasons: Secured Area, Extensive deterioration

Bldg. 38, TA-14

Los Alamos National Laboratory

Los Alamos NM 87545

Landholding Agency: Energy

Property Number: 41199940004

Status: Unutilized

Reasons: Secured Area, Extensive deterioration

Bldg. 9, TA-15

Los Alamos National Laboratory

Los Alamos NM 87545

Landholding Agency: Energy

Property Number: 41199940006

Status: Unutilized

Reasons: Secured Area

Bldg. 141, TA-15

Los Alamos National Lab

Los Alamos NM 87545

Landholding Agency: Energy

Property Number: 41199940008

Status: Unutilized

Reasons: Secured Area

Bldg. 44, TA-15

Los Alamos National Lab

Los Alamos NM 87545

Landholding Agency: Energy

Property Number: 41199940009

Status: Unutilized

Reasons: Secured Area

Bldg. 2, TA-18

Los Alamos National Lab

Los Alamos NM 87545

Landholding Agency: Energy

Property Number: 41199940010

Status: Unutilized

Reasons: Secured Area, Extensive deterioration

Bldg. 5, TA-18

Los Alamos National Lab

Los Alamos NM 87545

Landholding Agency: Energy

Property Number: 41199940011

Status: Unutilized

Reasons: Extensive deterioration, Secured Area

Bldg. 186, TA-18

Los Alamos National Lab

Los Alamos NM 87545

Landholding Agency: Energy

Property Number: 41199940012

Status: Unutilized

Reasons: Secured Area, Extensive deterioration

Bldg. 188, TA-18

Los Alamos National Lab

Los Alamos NM 87545

Landholding Agency: Energy

Property Number: 41199940013

Status: Unutilized

Reasons: Secured Area, Extensive deterioration

Bldg. 44, TA-36

Los Alamos National Lab

Los Alamos NM 87545

Landholding Agency: Energy

Property Number: 41199940015

Status: Unutilized

Reasons: Secured Area, Extensive deterioration

Bldg. 45, TA-36

Los Alamos National Lab

Los Alamos NM 87545

Landholding Agency: Energy

Property Number: 41199940016

Status: Unutilized

Reasons: Secured Area, Extensive deterioration

Bldg. 258, TA-46

Los Alamos National Lab

Los Alamos NM 87545

Landholding Agency: Energy

Property Number: 41199940019

Status: Unutilized

Reasons: Secured Area, Extensive deterioration

TA-3, Bldg. 208

Los Alamos National Lab

Los Alamos NM 87545

Landholding Agency: Energy

Property Number: 41200010010

Status: Unutilized

Reasons: Secured Area, Extensive deterioration

TA-14, Bldg. 5

Los Alamos National Lab

Los Alamos NM 87545

Landholding Agency: Energy

Property Number: 41200010019

Status: Unutilized

Reasons: Secured Area

TA-21, Bldg. 150

Los Alamos National Lab

Los Alamos NM 87545

Landholding Agency: Energy

Property Number: 41200010020

Status: Unutilized

Reasons: Secured Area

Bldg. 149, TA-21

Los Alamos National Lab

Los Alamos NM 87545

Landholding Agency: Energy

Property Number: 41200010024

Status: Unutilized

Reasons: Secured Area

Bldg. 312, TA-21

Los Alamos National Lab

Los Alamos NM 87545

Landholding Agency: Energy

Property Number: 41200010025

Status: Unutilized

Reasons: Secured Area

Bldg. 313, TA-21

Los Alamos National Lab

Los Alamos NM 87545

Landholding Agency: Energy

Property Number: 41200010026

Status: Unutilized

Reasons: Secured Area

Bldg. 314, TA-21

Los Alamos National Lab

Los Alamos NM 87545

Landholding Agency: Energy

Property Number: 41200010027

Status: Unutilized

Reasons: Secured Area

Bldg. 315, TA-21

Los Alamos National Lab

Los Alamos NM 87545

Landholding Agency: Energy

Property Number: 41200010028

Status: Unutilized

Reasons: Secured Area

Bldg. 1, TA-8

Los Alamos National Lab

Los Alamos NM 87545

Landholding Agency: Energy

Property Number: 41200010029

Status: Unutilized

Reasons: Secured Area

Bldg. 2, TA-8

Los Alamos National Lab

Los Alamos NM 87545

Landholding Agency: Energy

Property Number: 41200010030

Status: Unutilized

Reasons: Extensive deterioration, Secured Area

Bldg. 3, TA-8

Los Alamos National Lab

Los Alamos NM 87545

Landholding Agency: Energy

Property Number: 41200020001

Status: Unutilized

Reasons: Extensive deterioration, Secured Area

Bldg. 51, TA-9

Los Alamos National Lab

Los Alamos NM 87545

Landholding Agency: Energy

Property Number: 41200020002

Status: Unutilized

Reasons: Secured Area

Bldg. 30, TA-14

Los Alamos National Lab

Los Alamos NM 87545

Landholding Agency: Energy

Property Number: 41200020003

Status: Unutilized

Reasons: Secured Area

Bldg. 16, TA-3

Los Alamos National Lab

Los Alamos NM 87545

Landholding Agency: Energy

Property Number: 41200020009

Status: Unutilized

Reasons: Secured Area

Bldg. 48, TA-55

Los Alamos National Lab

Los Alamos NM 87545

Landholding Agency: Energy

Property Number: 41200020017

Status: Unutilized

Reasons: Secured Area

Bldg. 125, TA-55

Los Alamos National Lab

Los Alamos NM 87545

Landholding Agency: Energy

Property Number: 41200020018

Status: Unutilized

Reasons: Secured Area

Bldg. 162, TA-55

Los Alamos National Lab

Los Alamos NM 87545

Landholding Agency: Energy

Property Number: 41200020019

Status: Unutilized

Reasons: Secured Area

Bldg. 22, TA-33

Los Alamos National Lab

Los Alamos NM 87545

Landholding Agency: Energy

Property Number: 41200020022

Status: Unutilized

Reasons: Secured Area, Extensive deterioration

Bldg. 23, TA-49

Los Alamos National Lab

Los Alamos NM 87545

Landholding Agency: Energy

Property Number: 41200020023

Status: Unutilized

Reasons: Secured Area

Bldg. 37, TA-53

Los Alamos National Lab

Los Alamos NM 87545

Landholding Agency: Energy

Property Number: 41200020024

Status: Unutilized

Reasons: Secured Area

Bldg. 121, TA-49

Los Alamos National Lab

Los Alamos NM 87545

Landholding Agency: Energy

Property Number: 41200020025

Status: Unutilized

Reasons: Secured Area

Bldg. B117

Kirtland Operations

Albuquerque Co: Bernalillo NM 87117

Landholding Agency: Energy

Property Number: 41200220032

Status: Excess

Reasons: Extensive deterioration

Bldg. B118

Kirtland Operations

Albuquerque Co: Bernalillo NM 87117

Landholding Agency: Energy

Property Number: 41200220033

Status: Excess

Reasons: Extensive deterioration

Bldg. B119

Kirtland Operations

Albuquerque Co: Bernalillo NM 87117

Landholding Agency: Energy

Property Number: 41200220034

Status: Excess

Reasons: Extensive deterioration

Bldg. 2, TA-11

Los Alamos National Lab

Los Alamos NM 87545

Landholding Agency: Energy

Property Number: 41200240004

Status: Unutilized

Reasons: Secured Area

Bldg. 4, TA-41

Los Alamos National Lab

Los Alamos NM 87545

Landholding Agency: Energy

Property Number: 41200240005

Status: Unutilized

Reasons: Secured Area

Bldg. 116, TA-21

Los Alamos National Lab

Los Alamos NM 87545

Landholding Agency: Energy

Property Number: 41200310003

Status: Unutilized

Reasons: Secured Area

Bldgs. 1, 2, 3, 4, 5, TA-28

Los Alamos National Lab

Los Alamos NM 87545

Landholding Agency: Energy

Property Number: 41200310004

Status: Unutilized

Reasons: Secured Area

Bldgs. 447, 1483

Los Alamos Natl Laboratory

Los Alamos NM

Landholding Agency: Energy

Property Number: 41200410002

Status: Excess

Reasons: Extensive deterioration, Secured Area

Bldg. 99650

Sandia National Laboratory

Albuquerque Co: Bernalillo NM 87185

Landholding Agency: Energy

Property Number: 41200510004

Status: Unutilized

Reasons: Secured Area

Bldgs. 807, 6017 CAMU2 & CAMU3

Sandia Natl Laboratories

Albuquerque NM 87185

Landholding Agency: Energy

Property Number: 41200730001

Status: Unutilized

Reasons: Secured Area

Bldg. 6502

Sandia National Lab

Albuquerque NM 87185

Landholding Agency: Energy

Property Number: 41200810002

Status: Unutilized

Reasons: Extensive deterioration, Secured Area

9 Bldgs.

Los Alamos National Lab

Los Alamos NM

Landholding Agency: Energy

Property Number: 41200920006

Status: Excess

Directions: 08-0026, 08-0030, 08-0065, 16-0193, 16-0242, 16-0244, 16-0897, 16-1489, 55-0107

Reasons: Secured Area

New York

Bldgs. 0087, 0100

Brookhaven Natl Laboratory

Upton NY 11973

Landholding Agency: Energy

Property Number: 41200720002

Status: Excess

Reasons: Within 2000 ft. of flammable or explosive material, Secured Area

Bldgs. 0134A, 0179A

Brookhaven Natl Laboratory

Upton NY 11973

Landholding Agency: Energy

Property Number: 41200720003

Status: Excess

Reasons: Within 2000 ft. of flammable or explosive material, Secured Area

Bldgs. 0210, 0211

Brookhaven Natl Laboratory

Upton NY 11973

Landholding Agency: Energy

Property Number: 41200720004

Status: Excess

Reasons: Within 2000 ft. of flammable or explosive material, Secured Area

Bldgs. 0475, 0481

Brookhaven Natl Laboratory

Upton NY 11973

Landholding Agency: Energy

Property Number: 41200720005

Status: Excess

Reasons: Secured Area, Within 2000 ft. of flammable or explosive material

Bldgs. 0629, 0952

Brookhaven Natl Laboratory

Upton NY 11973

Landholding Agency: Energy

Property Number: 41200720006

Status: Excess

Reasons: Within 2000 ft. of flammable or explosive material, Secured Area

Bldg. 0096

Brookhaven National Lab

Upton NY 11973

Landholding Agency: Energy

Property Number: 41200730004

Status: Unutilized

Reasons: Secured Area, Extensive deterioration

Bldgs. 0491, 0650

Brookhaven Natl Lab

Upton Co: Suffok NY 11973

Landholding Agency: Energy

Property Number: 41200810003

Status: Excess

Reasons: Secured Area

Bldgs. 0810, 0811, 0901W

Brookhaven Natl Lab

Upton Co: Suffolk NY 11973

Landholding Agency: Energy

Property Number: 41200810004

Status: Excess

Reasons: Secured Area

Bldg. 913T

Brookhaven Natl Laboratory

Upton NY 11973

Landholding Agency: Energy

Property Number: 41200830001

Status: Unutilized

Reasons: Secured Area, Extensive deterioration, Within 2000 ft. of flammable or explosive material

Boat House

USCG Station Eaton's Neck

Northport NY 11768

Landholding Agency: Coast Guard

Property Number: 88200920005

Status: Unutilized

Reasons: Secured Area

North Carolina

Sewage Treatment Facility

USCG Cape Hatteras

Buxton NC 27902

Landholding Agency: Coast Guard

Property Number: 88200920006

Status: Unutilized

Reasons: Secured Area

Pennsylvania

Z-Bldg.

Bettis Atomic Power Lab

West Mifflin Co: Allegheny PA 15122-0109

Landholding Agency: Energy

Property Number: 41199720002

Status: Excess

Reasons: Extensive deterioration

South Carolina

Bldg. 701-6G

Jackson Barricade

Jackson SC

Landholding Agency: Energy

Property Number: 41200420010

Status: Unutilized

Reasons: Secured Area

Bldg. 211-000F

Nuclear Materials Processing Facility

Aiken SC 29802

Landholding Agency: Energy

Property Number: 41200420011

Status: Excess

Reasons: Secured Area

Bldg. 221-001F

Nuclear Materials Processing Facility

Aiken SC 29802

Landholding Agency: Energy

Property Number: 41200420015

Status: Excess

Reasons: Secured Area

Bldg. 190-K

Savannah River Operations

Aiken SC 29802

Landholding Agency: Energy

Property Number: 41200420030

Status: Unutilized

Reasons: Secured Area

Bldg. 710-015N

Savannah River Operations

Aiken SC 29802

Landholding Agency: Energy

Property Number: 41200430002

Status: Excess

Reasons: Secured Area

Bldg. 713-000N

Savannah River Operations

Aiken SC 29802

Landholding Agency: Energy

Property Number: 41200430003

Status: Excess

Reasons: Secured Area

Bldgs. 80-9G, 10G

Savannah River Operations

Aiken SC 29802

Landholding Agency: Energy

Property Number: 41200430006

Status: Excess

Reasons: Secured Area

Bldgs. 105-P, 105-R

Savannah River Operations

Aiken SC 29802

Landholding Agency: Energy

Property Number: 41200430007

Status: Excess

Reasons: Secured Area

Bldg. 183-003L

Savannah River Operations

Aiken SC 29802

Landholding Agency: Energy

Property Number: 41200430009

Status: Excess

Reasons: Secured Area

Bldg. 221-016F

Savannah River Operations

Aiken SC 29802

Landholding Agency: Energy

Property Number: 41200430014

Status: Excess

Reasons: Secured Area

Bldgs. 221-053F, 054F

Savannah River Operations

Aiken SC 29802

Landholding Agency: Energy

Property Number: 41200430016

Status: Excess

Reasons: Secured Area

Bldgs. 252-003F, 005F

Savannah River Operations

Aiken SC 29802

Landholding Agency: Energy

Property Number: 41200430017

Status: Excess

Reasons: Secured Area

Bldg. 315-M

Savannah River Operations

Aiken SC 29802

Landholding Agency: Energy

Property Number: 41200430030

Status: Excess

Reasons: Secured Area

Bldg. 716-002A

Savannah River Operations

Aiken SC 29802

Landholding Agency: Energy

Property Number: 41200430040

Status: Excess

Reasons: Secured Area

Bldgs. 221-21F, 22F

Savannah River Operations

Aiken SC 29802

Landholding Agency: Energy

Property Number: 41200430042

Status: Excess

Reasons: Secured Area

Bldg. 221-033F

Savannah River Operations

Aiken SC 29802

Landholding Agency: Energy

Property Number: 41200430043

Status: Excess

Reasons: Secured Area

Bldg. 254-007F

Savannah River Operations

Aiken SC 29802

Landholding Agency: Energy

Property Number: 41200430044

Status: Excess

Reasons: Secured Area

Bldg. 281-001F

Savannah River Operations

Aiken SC 29802

Landholding Agency: Energy

Property Number: 41200430045

Status: Excess

Reasons: Secured Area

Bldg. 281-004F

Savannah River Operations

Aiken SC 29802

Landholding Agency: Energy

Property Number: 41200430046

Status: Excess

Reasons: Secured Area

Bldg. 281-006F

Savannah River Operations

Aiken SC 29802

Landholding Agency: Energy

Property Number: 41200430047

Status: Excess

Reasons: Secured Area

Bldg. 703-045A

Savannah River Operations

Aiken SC 29802

Landholding Agency: Energy

Property Number: 41200430050

Status: Excess

Reasons: Secured Area

Bldg. 703-071A

Savannah River Operations

Aiken SC 29802

Landholding Agency: Energy

Property Number: 41200430051

Status: Excess

Reasons: Secured Area

Bldg. 754-008A

Savannah River Operations

Aiken SC 29802

Landholding Agency: Energy

Property Number: 41200430058

Status: Excess

Reasons: Secured Area

Bldg. 186-R

Savannah River Site

Aiken SC

Landholding Agency: Energy

Property Number: 41200430063

Status: Unutilized

Reasons: Secured Area

4 Bldgs.

Savannah River Site

#281-2F, 281-5F, 285-F, 285-5F

Aiken SC

Landholding Agency: Energy

Property Number: 41200430066

Status: Unutilized

Reasons: Secured Area

Bldg. 701-000M

Savannah River Site

Aiken SC 29802

Landholding Agency: Energy

Property Number: 41200430084

Status: Unutilized

Reasons: Secured Area

Bldg. 690-000N

Savannah River Site

Aiken SC 29802

Landholding Agency: Energy

Property Number: 41200440032

Status: Underutilized

Reasons: Secured Area

Facility 701-5G

Savannah River Site

New Ellenton SC

Landholding Agency: Energy

Property Number: 41200530003

Status: Unutilized

Reasons: Extensive deterioration

Bldg. 714-000A

Savannah River Site

Aiken SC

Landholding Agency: Energy

Property Number: 41200620014

Status: Underutilized

Reasons: Secured Area

Bldg. 777-018A

Savannah River Site

Aiken SC 29802

Landholding Agency: Energy

Property Number: 41200620022

Status: Excess

Reasons: Secured Area

Bldgs. 108-1P, 108-2P

Savannah River Site

Aiken SC 29802

Landholding Agency: Energy

Property Number: 41200630007

Status: Unutilized

Reasons: Secured Area

Bldg. 701-001P

Savannah River Site

Aiken SC 29802

Landholding Agency: Energy

Property Number: 41200640002

Status: Unutilized

Reasons: Secured Area

Bldgs. 151-1P, 151-2P

Savannah River Site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Bldg. 614-63G

Savannah River Site

Aiken SC 29802

Landholding Agency: Energy

Property Number: 41200710006

Status: Unutilized

Reasons: Secured Area

Bldgs. 701-2G, -905-117G

Savannah River Site

Aiken SC 29802

Landholding Agency: Energy

Property Number: 41200710007

Status: Unutilized

Reasons: Secured Area

Bldgs. 108-1R, 108-2R

Savannah River Site

Aiken SC 29802

Landholding Agency: Energy

Property Number: 41200710010

Status: Unutilized

Reasons: Secured Area

Bldgs. 717-003S, 717-010S

Savannah River Site

Aiken SC 29802

Landholding Agency: Energy

Property Number: 41200710011

Status: Unutilized

Reasons: Secured Area

Facility 151-1R

Savannah River Site

Aiken SC 29802

Landholding Agency: Energy

Property Number: 41200810001

Status: Underutilized

Reasons: Secured Area

Tennessee

Bldg. 9418-1 Y

Y-12 Plant

Oak Ridge Co: Anderson TN 37831

Landholding Agency: Energy

Property Number: 41199810026

Status: Unutilized

Reasons: Secured Area, Extensive deterioration

Bldg. 2010

Oak Ridge Natl Laboratory

Oak Ridge TN 37831

Landholding Agency: Energy

Property Number: 41200710009

Status: Excess

Reasons: Extensive deterioration, Secured Area

3 Bldgs.

Y-12 Natl Nuclear Security Complex

Oak Ridge TN 37831

Landholding Agency: Energy

Property Number: 41200720001

Status: Unutilized

Directions: 9104-01, 9104-02, 9104-03

Reasons: Secured Area

Bldgs. 1035, 1058, 1061

E. Tennessee Technology Park

Oak Ridge TN

Landholding Agency: Energy

Property Number: 41200730002

Status: Unutilized

Reasons: Extensive deterioration, Secured Area, Contamination

Bldgs. 1231, 1416

E. Tennessee Technology Park

Oak Ridge TN 37831

Landholding Agency: Energy

Property Number: 41200730003

Status: Unutilized

Reasons: Contamination, Extensive deterioration, Secured Area

Bldgs. 413, 1059

E. TN Tech Park

Oak Ridge TN 37831

Landholding Agency: Energy

Property Number: 41200730006

Status: Excess

Reasons: Secured Area, Contamination

Bldgs. 1000, 1008F, 1028

E. TN Technology Park

Oak Ridge TN 37831

Landholding Agency: Energy

Property Number: 41200810005

Status: Excess

Reasons: Secured Area

Bldgs. 1101, 1201, 1501

E. TN Technology Park

Oak Ridge TN 37831

Landholding Agency: Energy

Property Number: 41200810006

Status: Excess

Reasons: Within airport runway clear zone, Secured Area

4 Bldgs.

East TN Technology Park

Oak Ridge TN 37831

Landholding Agency: Energy

Property Number: 41200810007

Status: Excess

Directions: 1513, 1515, 1515E, 1515H

Reasons: Secured Area

3 Bldgs.

Y-12 National Security Complex

9706-01, 9706-01A, 9711-05

Oak Ridge TN 37831

Landholding Agency: Energy

Property Number: 41200810008

Status: Unutilized

Reasons: Secured Area

3 Bldgs.

Y-12 National Security Complex

9733-01, 9733-02, 9733-03

Oak Ridge TN 37831 Landholding Agency: Energy

Property Number: 41200810009

Status: Unutilized

Reasons: Secured Area

Bldgs. 9734, 9739

Y-12 National Security Complex

Oak Ridge TN 37831

Landholding Agency: Energy

Property Number: 41200810010

Status: Unutilized

Reasons: Secured Area

Texas

Zone 12, Bldg. 12-20

Pantex Plant

Amarillo Co: Carson TX 79120

Landholding Agency: Energy

Property Number: 41200220053

Status: Unutilized

Reasons: Within 2000 ft. of flammable or explosive material, Secured Area

Bldgs. 12-017E, 12-019E

Pantex Plant

Amarillo Co: Carson TX 79120

Landholding Agency: Energy

Property Number: 41200320010

Status: Unutilized

Reasons: Within 2000 ft. of flammable or explosive material, Secured Area

4 Bldgs.

NNSA Pantex Plant

Amarillo Co: Carson TX 79120

Landholding Agency: Energy

Property Number: 41200540002

Status: Unutilized

Directions: 12-009, 12-009A, 12-R-009A, 12-R-009B

Reasons: Secured Area, Within 2000 ft. of flammable or explosive material

Bldg. 12-011A

NNSA Pantex Plant

Amarillo Co: Carson TX 79120

Landholding Agency: Energy

Property Number: 41200540003

Status: Unutilized

Reasons: Within 2000 ft. of flammable or explosive material, Secured Area

Bldg. 12-097

NNSA Pantex Plant

Amarillo Co: Carson TX 79120

Landholding Agency: Energy

Property Number: 41200540004

Status: Unutilized

Reasons: Secured Area, Within 2000 ft. of flammable or explosive material

Bldgs. 11-54, 11-54A

Zone 11

Plantex Plant

Amarillo Co: Carson TX 79120

Landholding Agency: Energy

Property Number: 41200630008

Status: Unutilized

Reasons: Secured Area, Within 2000 ft. of flammable or explosive material

Bldg. 12-002B

Zone 12

Pantex Plant

Amarillo Co: Carson TX 79120

Landholding Agency: Energy

Property Number: 41200630009

Status: Unutilized

Reasons: Secured Area, Within 2000 ft. of flammable or explosive material

4 Bldgs.

12-003, 12-R-003, 12-003L

Zone 12, Pantex Plant

Amarillo Co: Carson TX 79120

Landholding Agency: Energy

Property Number: 41200630010

Status: Unutilized

Reasons: Secured Area, Within 2000 ft. of flammable or explosive material

Bldg. 12-014

Zone 12

Pantex Plant

Amarillo Co: Carson TX 79120

Landholding Agency: Energy

Property Number: 41200630011

Status: Unutilized

Reasons: Within 2000 ft. of flammable or explosive material, Secured Area

Bldg. 12-24E

Zone 12

Pantex Plant

Amarillo Co: Carson TX 79120

Landholding Agency: Energy

Property Number: 41200630012

Status: Unutilized

Reasons: Secured Area, Within 2000 ft. of flammable or explosive material

Bldg. 11-029, Zone 11

Pantex Plant

Amarillo Co: Carson TX 79120

Landholding Agency: Energy

Property Number: 41200640007

Status: Unutilized

Reasons: Within 2000 ft. of flammable or explosive material, Secured Area

Bldgs. 11-010, T09-031

Pantex Plant

Amarillo TX 79120

Landholding Agency: Energy

Property Number: 41200810011

Status: Unutilized

Reasons: Within 2000 ft. of flammable or explosive material, Secured Area

Bldgs. 4-24, 4-27, 4-29

Pantex Plant

Amarillo TX 79120

Landholding Agency: Energy

Property Number: 41200830003

Status: Unutilized

Reasons: Within 2000 ft. of flammable or explosive material, Secured Area

Bldg. 11-027

Pantex Plant

Amarillo TX 79120

Landholding Agency: Energy

Property Number: 41200830004

Status: Unutilized

Reasons: Within 2000 ft. of flammable or explosive material, Secured Area

3 Bldgs.

Pantex Plant

12-0245, 12-041SS, 12-075A

Amarillo TX 79120

Landholding Agency: Energy

Property Number: 41200830005

Status: Unutilized

Reasons: Within 2000 ft. of flammable or explosive material, Secured Area

Bldgs. 04-024, 04-027, 04-029

Pantex Plant

Amarillo TX

Landholding Agency: Energy

Property Number: 41200840003

Status: Unutilized

Reasons: Within 2000 ft. of flammable or explosive material, Secured Area

Bldgs. 09-013, 09-125

Pantex Plant

Amarillo TX

Landholding Agency: Energy

Property Number: 41200840004

Status: Unutilized

Reasons: Within 2000 ft. of flammable or explosive material, Secured Area

5 Bldgs.

Pantex Plant

Amarillo TX

Landholding Agency: Energy

Property Number: 41200840005

Status: Unutilized

Directions: 09-095, 09-126, 09-132, 09-132A, 09-134

Reasons: Within 2000 ft. of flammable or explosive material, Secured Area

Bldg. 11-027

Pantex Plant

Amarillo TX

Landholding Agency: Energy

Property Number: 41200840006

Status: Unutilized

Reasons: Within 2000 ft. of flammable or explosive material, Secured Area

4 Bldgs.

Pantex Plant

Amarillo TX

Landholding Agency: Energy

Property Number: 41200840007

Status: Unutilized

Directions: 12-R-009B,12-0245, 12-041SS, 12-075A

Reasons: Within 2000 ft. of flammable or explosive material, Secured Area

Washington

79 Structures

Hanford Site 100, 300, 400

Richland Co: Benton WA 99352

Landholding Agency: Energy

Property Number: 41200620010

Status: Excess

Directions: Infrastructure Facilities

Reasons: Secured Area

87 Structures

Hanford Site 100, 300, 400

Richland Co: Benton WA 99351

Landholding Agency: Energy

Property Number: 41200620011

Status: Excess

Directions: Mobile Offices

Reasons: Secured Area

139 Structures

Hanford Site 100, 300, 400

Richland Co: Benton WA 99352

Landholding Agency: Energy

Property Number: 41200620012

Status: Excess

Directions: Offices Facilities

Reasons: Secured Area

122 Structures

Hanford Site 100, 300, 400

Richland Co: Benton WA 99352

Landholding Agency: Energy

Property Number: 41200620013

Status: Excess

Directions: Process Facilities

Reasons: Secured Area

[FR Doc. E9-11099 Filed 5-14-09; 8:45 am]

BILLING CODE 4210-67-P